DEPARTMENT OF HOMELAND SECURITY

U.S. Citizenship and Immigration Services

[CIS No. 2690-21; DHS Docket No. USCIS-2015-0005]

RIN 1615-ZB76

Extension and Redesignation of Yemen for Temporary Protected Status

AGENCY: U.S. Citizenship and Immigration Services, Department of Homeland Security.

ACTION: Notice of Temporary Protected Status extension and redesignation.

SUMMARY: Through this Notice, the Department of Homeland Security (DHS) announces that the Secretary of Homeland Security (Secretary) is extending the designation of Yemen for Temporary Protected Status (TPS) for 18 months, from September 4, 2021, through March 3, 2023, and redesignating Yemen for 18 months, effective September 4, 2021, through March 3, 2023. The extension allows currently eligible TPS beneficiaries to retain TPS through March 3, 2023, so long as they otherwise continue to meet the eligibility requirements for TPS. The redesignation of Yemen allows additional individuals who have been continuously residing in the United States since July 5, 2021, to obtain TPS, if otherwise eligible. Through this Notice, DHS also sets forth procedures necessary for Yemeni nationals (or individuals having no nationality who last habitually resided in Yemen) either to submit an initial registration application under the redesignation and apply for an Employment Authorization Document (EAD) or, if they already have TPS, to re-register under the extension and to apply for renewal of their EADs with U.S. Citizenship and Immigration Services (USCIS). USCIS will issue new EADs with a March 3, 2023 expiration date to eligible beneficiaries under Yemen's TPS designation who timely reregister and apply for EADs under this extension, or who timely register and apply for EADs under this redesignation.

DATES:

Extension of Designation of Yemen for TPS: The 18-month extension of the TPS designation of Yemen is effective September 4, 2021, and will remain in effect through March 3, 2023. The 60-day re-registration period runs from July 9, 2021 through September 7, 2021. (Note: It is important for re-registrants to timely re-register during this 60-day period and not to wait until their EADs expire.)

Redesignation of Yemen for TPS: The 18-month redesignation of Yemen for TPS is effective September 4, 2021, and will remain in effect through March 3, 2023. The initial registration period for new applicants under the Yemen TPS redesignation begins on July 9, 2021 and will remain in effect through March 3, 2023.¹

¹ In general, individuals must be given an initial registration period of no less than 180 days to register for TPS, but the Secretary has discretion to provide for a longer registration period. See 8 U.S.C. 1254a(c)(1)(A)(iv). Historically, the length of the initial registration period has varied. Compare 66 FR 14214 (March 9, 2001) (18-month initial registration period for applicants under TPS designation for El Salvador) with 80 FR 36346 (June 24, 2015) (180-day initial registration period for applicants under TPS designation for Nepal). In recent years this period has generally been limited to the statutory minimum of 180 days, although later extensions of the initial registration period have also been announced for some countries. See, e.g., 81 FR 4051 (Jan. 25, 2016) (setting 180-day initial registration period during extension and redesignation of South Sudan for TPS); 78 FR 1866 (Jan. 9, 2013) (setting 180-day initial registration period during extension and redesignation of Sudan for TPS); but see 75 FR 39957 (July 13, 2010) (extension of previously announced initial 180-day registration period for Haiti TPS applicants to allow more time for individuals to apply). After evaluating whether to limit the initial registration period for TPS under this new designation of Yemen to the statutory minimum of 180 days, DHS has determined that it will provide the full 18 months of this designation for applicants to file their initial registration Form I-821 and, if desired, Form I-765 to obtain employment authorization documentation. Limiting the initial registration period to 180 days may place a burden on applicants who are unable to timely file but would otherwise be eligible for a grant of TPS. In addition, permitting registration throughout the entirety of the designation period could reduce the operational burden on USCIS, as incoming applications may be spread out over a longer period of time. This extended registration period is both in keeping with the humanitarian purpose of TPS and will better advance the goal of ensuring “the Federal Government eliminates . . . barriers that prevent immigrants from accessing government services available to them.” See Executive Order 14012, Restoring Faith in Our Legal Immigration Systems and Strengthening Integration and Inclusion Efforts for New Americans, 86 FR 8277.

FOR FURTHER INFORMATION CONTACT:

• You may contact Andria Strano, Acting Chief, Humanitarian Affairs Division, Office of Policy and Strategy, U.S. Citizenship and Immigration Services, U.S. Department of Homeland Security, by mail at 5900 Capital Gateway Drive, Camp Springs, MD 20746, or by phone at 800-375-5283.

• For further information on TPS, including guidance on the re-registration process and additional information on eligibility, please visit the USCIS TPS web page at http://www.uscis.gov/tps. You can find specific information about this extension of Yemen's TPS designation by selecting “Yemen” from the menu on the left side of the TPS web page.

• If you have additional questions about TPS, please visit uscis.gov/tools. Our online virtual assistant, Emma, can answer many of your questions and point you to additional information on our website. If you are unable to find your answers there, you may also call our USCIS Contact Center at 800-375-5283 (TTY 800-767-1833).

• Applicants seeking information about the status of their individual cases may check Case Status Online, available on the USCIS website at http://www.uscis.gov, or visit the USCIS Contact Center at uscis.gov/contactcenter.

• Further information will also be available at local USCIS offices upon publication of this Notice.

SUPPLEMENTARY INFORMATION:

Table of Abbreviations

BIA Board of Immigration Appeals

CFR Code of Federal Regulations

DHS U.S. Department of Homeland Security

DOS U.S. Department of State

EAD Employment Authorization Document

FNC Final Nonconfirmation

Form I-765 Application for Employment Authorization

Form I-797 Notice of Action

Form I-821 Application for Temporary Protected Status

Form I-9 Employment Eligibility Verification

Form I-912 Request for Fee Waiver

Form I-94 Arrival/Departure Record

FR Federal Register

Government—U.S. Government

IER—U.S. Department of Justice, Civil Rights Division, Immigrant and Employee Rights Section

IJ—Immigration Judge

INA—Immigration and Nationality Act

SAVE—USCIS Systematic Alien Verification for Entitlements Program

Secretary—Secretary of Homeland Security

TNC—Tentative Nonconfirmation

TPS—Temporary Protected Status

TTY—Text Telephone

USCIS—U.S. Citizenship and Immigration Services

U.S.C.—United States Code

Through this Notice, DHS sets forth procedures necessary for eligible nationals of Yemen (or individuals having no nationality who last habitually resided in Yemen) to (1) re-register for TPS and to apply for renewal of their EADs with USCIS or (2) submit an initial registration application under the redesignation and apply for an EAD.

Re-registration is limited to individuals who have previously registered for TPS under the designation of Yemen and whose applications have been granted.

For individuals who have already been granted TPS under Yemen's designation, the 60-day re-registration period runs from July 9, 2021 through September 7, 2021. USCIS will issue new EADs with a March 3, 2023 expiration date to eligible Yemeni TPS beneficiaries who timely re-register and apply for EADs. Given the timeframes involved with processing TPS re-registration applications, DHS recognizes that not all re-registrants may receive new EADs before their current EADs expire on September 3, 2021. Accordingly, through this Federal Register Notice, DHS automatically extends the validity of EADs previously issued under the TPS designation of Yemen for 180 days, through March 2, 2022. Therefore, TPS beneficiaries can show their EADs with: (1) A September 3, 2021 expiration date on the face of the card and (2) an A-12 or C-19 category code as proof of continued employment authorization through March 2, 2022. This Notice explains how TPS beneficiaries and their employers may determine which EADs are automatically extended and how this affects the Form I-9, Employment Eligibility Verification, E-Verify, and USCIS Systematic Alien Verification for Entitlements (SAVE) processes.

Individuals who have a Yemen TPS application (Form I-821) and/or Application for Employment Authorization (Form I-765) that was still pending as of July 9, 2021 do not need to file either application again. If USCIS approves an individual's Form I-821, USCIS will grant the individual TPS through March 3, 2023. Similarly, if USCIS approves a pending TPS-related Form I-765, USCIS will issue the individual a new EAD that will be valid through the same date. There are approximately 1,700 current beneficiaries under Yemen's TPS designation.²

² Data extracted from the Computer Linked Application Information Management System (CLAIMS3) and the USCIS Electronic Immigration System (ELIS) database in March, 2021.

Under the redesignation, individuals who do not have TPS may submit an initial application during the initial registration period that runs from July 9, 2021 and runs through the full length of the redesignation period ending March 3, 2023. In addition to demonstrating continuous residence in the United States since July 5, 2021 and meeting other eligibility criteria, initial applicants for TPS under this redesignation must demonstrate that they have been continuously physically present in the United States since September 4, 2021, the effective date of this redesignation of Yemen, before USCIS may grant them TPS. The DHS Office of Immigration Statistics has estimated that approximately 480 individuals may become newly eligible for TPS under the redesignation of Yemen.

What is temporary protected status (TPS)?

• TPS is a temporary immigration status granted to eligible nationals of a country designated for TPS under the INA, or to eligible persons without nationality who last habitually resided in the designated country.

• During the TPS designation period, TPS beneficiaries are eligible to remain in the United States, may not be removed, and are authorized to obtain EADs so long as they continue to meet the requirements of TPS.

• TPS beneficiaries may also apply for and be granted travel authorization as a matter of discretion. Upon return from such authorized travel, TPS beneficiaries retain the same immigration status they had prior to the travel.

• To qualify for TPS, beneficiaries must meet the eligibility standards at INA section 244(c)(1)-(2), 8 U.S.C. 1254a(c)(1)-(2).

• When the Secretary terminates a country's TPS designation, beneficiaries return to one of the following:

○ The same immigration status or category that they maintained before TPS, if any (unless that status or category has since expired or been terminated); or

○ Any other lawfully obtained immigration status or category they received while registered for TPS, as long as it is still valid beyond the date TPS terminates.

When was Yemen designated for TPS?

Former Secretary of Homeland Security Jeh Johnson initially designated Yemen for TPS on September 3, 2015, based on ongoing armed conflict in the country resulting from the July 2014 offensive by the Houthis, a northern opposition group that initiated a violent, territorial expansion across the country, eventually forcing Yemeni government leaders into exile in Saudi Arabia. See Designation of Republic of Yemen for Temporary Protected Status, 80 FR 53319 (Sept. 3, 2015). On January 4, 2017, former Secretary Johnson announced an 18-month extension of Yemen's existing designation and a redesignation of Yemen for TPS on the dual bases of ongoing armed conflict and extraordinary and temporary conditions. See Extension and Redesignation of Republic of Yemen for Temporary Protected Status, 82 FR 859 (Jan. 4, 2017). In July 2018, former Secretary Kirstjen Nielsen extended Yemen's designation for 18 months, though March 3, 2020. See Extension of the Designation of Yemen for Temporary Protected Status, 83 FR 40307 (Aug. 14, 2018). Most recently, former Acting Secretary Chad Wolf extended Yemen's TPS designation for an additional 18 months through September 3, 2021. See Extension of the Designation of Yemen for Temporary Protected Status, 85 FR 12313 (Mar. 2, 2020).

What authority does the Secretary have to extend the designation of Yemen for TPS?

Section 244(b)(1) of the INA, 8 U.S.C. 1254a(b)(1), authorizes the Secretary, after consultation with appropriate agencies of the U.S. Government (Government), to designate a foreign state (or part thereof) for TPS if the Secretary determines that certain country conditions exist.³ The decision to designate any foreign state (or part thereof) is a discretionary decision, and there is no judicial review of any determination with respect to the designation, extension or termination of a designation. See INA section 244(b)(5)(A). The Secretary, in his/her discretion, may then grant TPS to eligible nationals of that foreign state (or individuals having no nationality who last habitually resided in the designated country). See INA section 244(a)(1)(A), 8 U.S.C. 1254a(a)(1)(A).

³ As of March 1, 2003, in accordance with section 1517 of title XV of the Homeland Security Act of 2002, Public Law 107-296, 116 Stat. 2135, any reference to the Attorney General in a provision of the INA describing functions transferred from the Department of Justice to DHS “shall be deemed to refer to the Secretary” of Homeland Security. See 6 U.S.C. 557 (codifying the Homeland Security Act of 2002, tit. XV, section 1517).

At least 60 days before the expiration of a country's TPS designation or extension, the Secretary, after consultation with appropriate Government agencies, must review the conditions in the foreign state designated for TPS to determine whether the conditions for the TPS designation continue to be met. See INA section 244(b)(3)(A), 8 U.S.C. 1254a(b)(3)(A). If the Secretary does not determine that the foreign state no longer meets the conditions for TPS designation, the designation will be extended for an additional period of 6 months or, in the Secretary's discretion, 12 or 18 months. See INA section 244(b)(3)(A), (C), 8 U.S.C. 1254a(b)(3)(A), (C). If the Secretary determines that the foreign state no longer meets the conditions for TPS designation, the Secretary must terminate the designation. See INA section 244(b)(3)(B), 8 U.S.C. 1254a(b)(3)(B).

What is the Secretary's authority to redesignate Yemen for TPS?

In addition to extending an existing TPS designation, the Secretary, after consultation with appropriate Government agencies, may redesignate a country (or part thereof) for TPS.⁴ See section 244(b)(1) of the Act, 8 U.S.C. 1254a(b)(1); see also section 244(c)(1)(A)(i) of the Act, 8 U.S.C. 1254a(c)(1)(A)(i) (requiring that “the alien has been continuously physically present since the effective date of the most recent designation of the state”) (emphasis added).

⁴ This extension and redesignation of TPS for Yemen is one of several instances in which the Secretary and, prior to the establishment of DHS, the Attorney General have simultaneously extended a country's TPS designation and redesignated the country for TPS. See, e.g., 76 FR 29000 (May 19, 2011) (extension and redesignation for Haiti); 69 FR 60168 (Oct. 7, 2004) (extension and redesignation for Sudan); 62 FR 16608 (Apr. 7, 1997) (extension and redesignation for Liberia).

When the Secretary designates or redesignates a country for TPS, the Secretary also has the discretion to establish the date from which TPS applicants must demonstrate that they have been “continuously resid[ing]” in the United States. See section 244(c)(1)(A)(ii) of the Act, 8 U.S.C. 1254a(c)(1)(A)(ii). The Secretary has determined that the “continuous residence” date for applicants for TPS under the redesignation of Yemen shall be July 5, 2021. Initial applicants for TPS under this redesignation must also show they have been “continuously physically present” in the United States since September 4, 2021, which is the effective date of the Secretary's most recent designation, or redesignation, of Yemen. See section 244(c)(1)(A)(i) of the Act, 8 U.S.C. 1254a(c)(1)(A)(i). For each initial TPS application filed under the redesignation, the final determination of whether the applicant has met the “continuous physical presence” requirement cannot be made until September 4, 2021. USCIS, however, will issue employment authorization documentation, as appropriate, during the registration period in accordance with 8 CFR 244.5(b).

Why is the Secretary extending the TPS designation for Yemen and simultaneously redesignating Yemen for TPS through March 3, 2023?

DHS has reviewed conditions in Yemen. Based on this review and after consulting with DOS, the Secretary has determined that an 18-month extension is warranted because the armed conflict is ongoing, and the extraordinary and temporary conditions that prompted the 2017 redesignation of Yemen persist. The Secretary has further determined that the conditions support redesignating Yemen for TPS under section 244(b)(1)(A) and (C) of the Act and changing the dates for “continuous residence” and “continuous physical presence” in the United States that applicants must meet, in addition to other requirements, to be eligible for TPS.

In September 2014, the Houthi clan, with their armed wing, Ansar Allah, and forces allied with them, launched an attack on Sana'a, Yemen's capital city, and much of the surrounding areas in an attempt to remove Yemen's President Abdu Rabbu Mansour Hadi.⁵ The armed conflict in Yemen escalated on March 25, 2015, when a coalition that included Saudi Arabia and the United Arab Emirates (UAE) entered the conflict with the aim of retaking the Houthis' territorial gains and returning President Hadi to power.⁶ Now in its seventh year, the protracted conflict has shown no sign of abating, as fighting between Houthi and government forces continues.⁷

⁵ The War in Yemen and the Making of a Chaos State, The Atlantic, February 3, 2018.

⁶ Saudi Arabia bombs Yemen, launches coalition op against Houthi rebels, Reuters, March 25, 2015.

⁷ Kali Robinson, Yemen's Tragedy: War, Stalemate, and Suffering, Council on Foreign Relations, Feb. 5, 2021.

There are 24.1 million people (approximately 80% of the population) in need of humanitarian assistance as a result of civil war and conflict in Yemen.⁸ The United Nations High Commissioner for Refugees (UNHCR) has recorded 69,160 Yemeni refugees and asylum-seekers in neighboring countries.⁹ Over 4 million people have been internally displaced within Yemen, and 166,000 of those were displaced in 2020.¹⁰ The number of those killed since the escalation in violence in 2015 is estimated at over 233,000 individuals.¹¹ The protracted armed conflict has resulted in high levels of food insecurity, limited access to water and medical care, and the large-scale destruction of Yemen's infrastructure and cultural heritage.¹²

⁸ The United Nations in Yemen, https://yemen.un.org/en/about/about-the-un, (last visited April 26, 2021).

⁹ Refugee Data Finder, The UN Refugee Agency, UNHCR, https://www.unhcr.org/refugee-statistics/download/?url=Gb4fe1 (last visited Apr. 16, 2021).

¹⁰ Operational Update: Yemen, UNHCR, April 15, 2021.

¹¹ UN humanitarian office puts Yemen war dead at 233,000, mostly from `indirect causes', UN News, Dec. 1, 2020.

¹² Heritage at Risk in Yemen, UNESCO, https://en.unesco.org/galleries/heritage-risk-yemen (last visited April 16, 2021).

The ongoing conflict has deepened Yemen's difficult economic and humanitarian situation. The food security situation has significantly deteriorated, with 16.2 million people experiencing food insecurity.¹³ The conflict has also severely impacted the delivery of basic services, including health services, water, sanitation, and education. UNICEF estimates that 18 million people in Yemen (approximately 59% of the population) do not currently have access to clean water and sanitation.¹⁴ Infrastructure damage as a result of the conflict has further constrained service delivery and relief efforts, as roads, bridges, flood control systems, health facilities, airports, and schools have been damaged or destroyed in the conflict.¹⁵ Even if a political resolution to the conflict is reached, Yemen will be faced with tremendous reconstruction needs. Additionally, thousands of landmines have been placed during the conflict, with mine clearance likely taking years to complete.¹⁶

¹³ WFP Yemen Emergency Dashboard, World Food Programme, March 2021.

¹⁴ UNICEF Yemen, Water, Sanitation, Hygiene, https://www.unicef.org/yemen/water-sanitation-and-hygiene (last visited April 23, 2021).

¹⁵ Saudi-led attacks devastated Yemen's civilian infrastructure, dramatically worsening the humanitarian crisis, The Washington Post, Feb. 22, 2021.

¹⁶ Yemen: Houthi Landmines Kill Civilians, Block Aid, Human Rights Watch, April 22, 2019.

COVID-19 has devastated what remained of Yemen's healthcare infrastructure after years of protracted conflict. In April of 2021, it was reported that a new wave of COVID infections had more than doubled the number of confirmed cases in the preceding six weeks, and that while health facilities are increasingly turning people away for lack of space and supplies, reporting mechanisms capture only a small share of cases.¹⁷ In December of 2020, it was reported that only 51% of Yemen's health facilities were functioning, and the country had desperately low testing capacity for COVID-19, a total of only 700 intensive care beds, and just 500 ventilators available for a population of over 30 million people.¹⁸ In July of 2020, approximately 20% of the country's 333 districts had no medical doctors, with numbers continuing to decline as scores of doctors died from the virus.¹⁹ Healthcare for mothers and their babies is on the brink of collapse, with only 20% of the remaining healthcare facilities providing maternal and newborn healthcare as of December 2020.²⁰ One woman and six newborns in Yemen die every two hours due to complications during pregnancy or childbirth.²¹

¹⁷ Under-Secretary-General for Humanitarian Affairs and Emergency Relief Coordinator, Mark Lowcock: Briefing to the Security Council on the Humanitarian Situation in Yemen, United Nations Office for the Coordination of Humanitarian Affairs, April 15, 2021.

¹⁸ A crisis with no end in sight: How the ongoing crisis in Taiz Governorate continues to put civilians at risk, Oxfam, p. 3, Dec. 2020.

¹⁹ Agencies fear hidden cholera deaths in Yemen as Covid-19 overwhelms clinics, The Guardian, July 28, 2020.

²⁰ After years of conflict, Yemen remains the world's worst humanitarian crisis, a UNFPA 2021 appeal shows, Reliefweb, Dec. 7, 2020.

²¹ After years of conflict, Yemen remains the world's worst humanitarian crisis, a UNFPA 2021 appeal shows, Reliefweb, Dec. 7, 2020.

Yemen's citizens have also been beleaguered by a cholera outbreak since 2016.²² Between October 2016 and December 2020, 2,510,806 cases of cholera were recorded in Yemen.²³ COVID-19 can exacerbate death tolls in areas with cholera outbreaks, because the twin crises can overwhelm the healthcare system, and COVID-19 outbreaks can discourage cholera patients from seeking medical attention.²⁴ The cholera outbreak in Yemen is considered to be the worst in modern times, affecting all other major health crises, including COVID-19, and contributing to widespread malnutrition.²⁵

²² Yemen's cholera outbreak now the worst in history as millionth case looms, The Guardian, Oct. 12, 2017.

²³ Cholera Situation in Yemen, December 2020, World Health Organization, Dec. 2020.

²⁴ Osama B. Hassan & Laura B. Nellums, Cholera during COVID-19: The forgotten threat for forcibly displaced populations, EClinicalMedicine published by The Lancet, Volume 32, Feb. 11, 2021.

²⁵ Agencies fear hidden cholera deaths in Yemen as Covid-19 overwhelms clinics, The Guardian, July 28, 2020.

Since March of 2020, the economy of Yemen has contracted sharply from an already low base.²⁶ The COVID-19 pandemic depressed the worldwide oil market, which was particularly problematic for Yemen as the oil sector was previously the only large export earner in the Yemeni economy.²⁷ Yemen's private sector has suffered greatly from the armed conflict, and the shrinking of the economy has also affected the ability of laborers to bring home wages due to an extremely unreliable supply chain and a coercive business environment.²⁸

²⁶ Republic of Yemen, World Bank Economic Update, April 2021.

²⁷ Republic of Yemen, World Bank Economic Update, April 2021.

²⁸ Republic of Yemen, World Bank Economic Update, April 2021.

Based upon this review and after consultation with appropriate Government agencies, the Secretary has determined that:

• The conditions supporting Yemen's designation for TPS continue to be met. See INA section 244(b)(3)(A) and (C), 8 U.S.C. 1254a(b)(3)(A) and (C).

• There continues to be an ongoing armed conflict in Yemen and, due to such conflict, requiring the return to Yemen of Yemeni nationals (or individuals having no nationality who last habitually resided in Yemen) would pose a serious threat to their personal safety. See INA section 244(b)(1)(A), 8 U.S.C. 1254a(b)(1)(A).

• There continue to be extraordinary and temporary conditions in Yemen that prevent Yemeni nationals (or individuals having no nationality who last habitually resided in Yemen) from returning to Yemen in safety, and it is not contrary to the national interest of the United States to permit Yemeni TPS beneficiaries to remain in the United States temporarily. See INA section 244(b)(1)(C), 8 U.S.C. 1254a(b)(1)(C).

• The designation of Yemen for TPS should be extended for an 18-month period, from September 4, 2021, through March 3, 2023. See INA section 244(b)(3)(C), 8 U.S.C. 1254a(b)(3)(C).

• Yemen should be simultaneously redesignated for TPS effective September 4, 2021, through March 3, 2023, on the statutory bases of ongoing armed conflict and extraordinary and temporary conditions. See section 244(b)(1)(A) and (C) and (b)(2) of the Act, 8 U.S.C. 1254a(b)(1)(A) and (C) and (b)(2).

• Under the redesignation, the Secretary has determined that TPS applicants must demonstrate that they have continuously resided in the United States since July 5, 2021.

• Initial TPS applicants under the redesignation must demonstrate that they have been continuously physically present in the United States since September 4, 2021, the effective date of the redesignation of Yemen for TPS.

• There are approximately 1,700 current Yemen TPS beneficiaries who are expected to be eligible to re-register for TPS under the extension.²⁹

²⁹ See FN 2.

• It is estimated that approximately 480 additional individuals may be eligible for TPS under the redesignation of Yemen. This estimate includes Yemenis in the United States as nonimmigrants or without immigration status.

Notice of Extension of the TPS Designation and Redesignation of Yemen for TPS

By the authority vested in me as Secretary under INA section 244, 8 U.S.C. 1254a, I have determined, after consultation with the appropriate Government agencies, the conditions supporting Yemen's designation for TPS continue to be met. See INA section 244(b)(3)(A), 8 U.S.C. 1254a(b)(3)(A). On the basis of this determination, I am simultaneously extending the existing designation of TPS for Yemen for 18 months, from September 4, 2021 through March 3, 2023 and redesignating Yemen for TPS for the same 18-month period. See INA section 244(b)(1)(A), (b)(1)(C) and (b)(2); 8 U.S.C. 1254a(b)(1)(A), (b)(1)(C), and (b)(2).

Alejandro N. Mayorkas,
Secretary, U.S. Department of Homeland Security.

Required Application Forms and Application Fees to Register or Re-register for TPS

To register or re-register for TPS based on the designation of Yemen, you must submit an Application for Temporary Protected Status (Form I-821). If you are filing an initial application, you must pay the fee for the Application for Temporary Protected Status (Form I-821) or, if you can demonstrate an inability to pay the fee, you may be able to have the fee waived. A fee waiver may be requested by submitting a Request for a Fee Waiver (Form I-912). If you are filing an application for re-registration, you do not need to pay the fee for the Application for Temporary Protected Status (Form I-821). There is no Form I-821 fee for re-registration. See 8 CFR 244.17. You may be required to pay the biometric services fee. If you can demonstrate an inability to pay the biometric services fee, you may request to have the fee waived. Please see additional information under the “Biometric Services Fee” section of this Notice.

EAD information if you are already a TPS Yemen Beneficiary:

Through this Federal Register Notice, your existing EAD issued under the TPS designation of Yemen with the expiration date of September 3, 2021, is automatically extended for 180 days, through March 2, 2022. Although not required to do so, if you want to obtain a new EAD valid through March 3, 2023, you must file an Application for Employment Authorization (Form I-765) and pay the Form I-765 fee (or request a fee waiver). If you do not want a new EAD, you do not have to file Form I-765 and pay the Form I-765 fee. If you do not want to request a new EAD now, you may also file Form I-765 at a later date and pay the fee (or request a fee waiver), provided that you still have TPS or a pending TPS application. You may file the application for a new EAD either prior to or after your current EAD has expired. However, you are strongly encouraged to file your application for a new EAD as early as possible to avoid gaps in the validity of your employment authorization documentation and to ensure that you receive your new EAD by March 2, 2022.

If you have a Form I-821 and/or Form I-765 that was still pending as of July 9, 2021, then you do not need to file either application again. If USCIS approves your pending TPS application, USCIS will grant you TPS through March 3, 2023. Similarly, if USCIS approves your pending TPS-related Form I-765, it will be valid through the same date.

EAD information if you are not already a TPS Yemen Beneficiary:

Everyone must provide their employer with documentation showing that they have the legal right to work in the United States. You do not need to have an EAD, but you can obtain one and it will prove your legal right to work. If you are applying for initial registration and want an EAD, you must file and pay the fee for the Application for Employment Authorization (Form I-765). If you do not want to request an EAD now, you may also file Form I-765 at a later date and pay the fee (or request a fee waiver), provided that you still have TPS or a pending TPS application.

For more information on the application forms and fees for TPS, please visit the USCIS TPS web page at http://www.uscis.gov/tps. Fees for the Form I-821, the Form I-765, and biometric services are also described in 8 CFR 103.7(b)(1)(i).

Biometric Services Fee

Biometrics (such as fingerprints) are required for all applicants 14 years of age and older. Those applicants must generally submit a biometric services fee. As previously stated, if you can demonstrate an inability to pay the biometric services fee, you may be able to have the fee waived. A fee waiver may be requested by submitting a Request for Fee Waiver (Form I-912). For more information on the application forms and fees for TPS, please visit the USCIS TPS web page at www.uscis.gov/ tps. If necessary, you may be required to visit an Application Support Center to have your biometrics captured. For additional information on the USCIS biometrics screening process, please see the USCIS Customer Profile Management Service Privacy Impact Assessment, available at www.dhs.gov/privacy.

Refiling a TPS Initial Registration Application After Receiving Notice That the Fee Waiver Request Was Not Granted

You should file as soon as possible so USCIS can process your application and issue any EAD promptly, if you requested one. If you receive a denial of a fee waiver request related to your initial TPS application, you must refile your Form I-821 for TPS along with the required fees no later than March 3, 2023, in order to continue seeking initial TPS. If your fee waiver request was not granted, you may also refile your Form I-765, with fee, either with your Form I-821 or at a later time, if you choose.

Note: An initial applicant for TPS must pay the Form I-821 filing fee and those applicants age 14 or older must also pay the biometric services fee, unless granted a fee waiver. However, you may decide to wait to request an EAD. Therefore, you do not have to file the Form I-765 or pay the associated Form I-765 fee (or request a fee waiver) at the time of registration, and could wait to seek an EAD until after USCIS has approved your TPS registration application or at any later date you decide you want to request an EAD. If you choose to do this, to register for TPS you only need to file the Form I-821 with the $50 filing fee and the biometric services fee, if applicable (or request a fee waiver).

Refiling a TPS Re-Registration Application After Receiving Notice That the Fee Waiver Request Was Not Granted

You should file as soon as possible so USCIS can process your application and issue any EAD promptly, if you requested one. Properly filing early will also allow you to have time to refile your application before the deadline, should USCIS not grant your fee waiver request. If you receive a notice that your fee waiver request was not granted and are unable to refile by September 7, 2021, you may still refile your Form I-821 with the biometrics fee. USCIS will review this situation to determine whether you established good cause for late TPS re-registration. However, you are urged to refile within 45 days of the date on any USCIS notice that the fee waiver was not granted, if possible. See INA section 244(c)(3)(C); 8 U.S.C. 1254a(c)(3)(C); 8 CFR 244.17(b). For more information on good cause for late re-registration, visit the USCIS TPS web page at http://www.uscis.gov/tps. If your fee waiver request is not granted, you may also refile your Form I-765 with fee either with your Form I-821 or at a later time, if you choose.

Note: A re-registering TPS beneficiary age 14 and older must pay the biometric services fee (but not the Form I-821 filing fee), or request a fee waiver, when filing a TPS re-registration application. However, you may decide to wait to request an EAD. Therefore, you do not have to file the Form I-765 or pay the associated Form I-765 fee (or request a fee waiver) at the time of re-registration, and could wait to seek an EAD until after USCIS has approved your TPS re-registration application or at any later date you decide you want to request an EAD. If you choose to do this, to re-register for TPS you would only need to file the Form I-821 with the biometric services fee, if applicable (or request a fee waiver).

Mailing Information

Mail your application for TPS to the proper address in Table 1.

Table 1—Mailing Addresses
If you would like to send your application by: | Then, mail your application to:
U.S. Postal Service | U.S. Citizenship and Immigration Services, Attn: TPS Yemen, P.O. Box 6943, Chicago, IL 60680-6943.
FedEx, UPS, or DHL | U.S. Citizenship and Immigration Services, Attn: TPS Yemen (Box 6943), 131 S. Dearborn Street—3rd Floor, Chicago, IL 60603-5517.

If you were granted TPS by an Immigration Judge (IJ) or the Board of Immigration Appeals (BIA) and you wish to request an EAD or are re-registering for the first time following a grant of TPS by an IJ or the BIA, please mail your application to the appropriate mailing address in Table 1. When re-registering and requesting an EAD based on an IJ/BIA grant of TPS, please include a copy of the IJ or BIA order granting you TPS with your application. This will help us to verify your grant of TPS and process your application.

Supporting Documents

The filing instructions on the Form I-821 list all the documents needed to establish eligibility for TPS. You may also find information on the acceptable documentation and other requirements for applying or registering for TPS on the USCIS website at www.uscis.gov/tps under “Yemen.”

Employment Authorization Document (EAD)

How can I obtain information on the status of my TPS application and EAD request?

To get case status information about your TPS application, including the status of an EAD request, you can check Case Status Online at http://www.uscis.gov, or visit the USCIS Contact Center at uscis.gov/contactcenter. If your Form I-765 has been pending for more than 90 days, and you still need assistance, you may ask a question about your case online at egov.uscis.gov/e-request/Intro.do or call the USCIS Contact Center at 800-375-5283 (TTY 800-767-1833).

Am I eligible to receive an automatic 180-day extension of my current EAD through March 2, 2022, using this Federal Register Notice?

Yes. Regardless of your country of birth, provided that you currently have a Yemen TPS-based EAD with an expiration date of September 3, 2021, on the face of the card, bearing the notation A-12 or C-19 under Category, this notice automatically extends your EAD through March 2, 2022. Although this Federal Register Notice automatically extends your EAD through March 2, 2022, you must re-register timely for TPS in accordance with the procedures described in this Federal Register Notice to maintain your TPS and employment authorization.

When hired, what documentation may I show to my employer as evidence of employment authorization and identity when completing Form I-9?

You can find the Lists of Acceptable Documents on the third page of Form I-9 as well as the Acceptable Documents web page at https://www.uscis.gov/i-9-central/acceptable-documents. Employers must complete Form I-9 to verify the identity and employment authorization of all new employees. Within three days of hire, employees must present acceptable documents to their employers as evidence of identity and employment authorization to satisfy Form I-9 requirements.

You may present any document from List A (which provides evidence of both identity and employment authorization), or one document from List B (which provides evidence of your identity) together with one document from List C (which provides evidence of employment authorization), or you may present an acceptable receipt for List A, List B, or List C documents as described in the Form I-9 instructions. Employers may not reject a document based on a future expiration date. You can find additional information about Form I-9 on the I-9 Central web page at http://www.uscis.gov/I-9Central.

An EAD is an acceptable document under List A. See the section “How do my employer and I complete Form I-9 using my automatically extended EAD for a new job?” of this Federal Register Notice for further information. If your EAD has an expiration date of September 3, 2021 and states A-12 or C-19 under Category, it has been extended automatically by virtue of this Federal Register Notice and you may choose to present your EAD to your employer as proof of identity and employment eligibility for Form I-9 through March 2, 2022, unless your TPS has been withdrawn or your request for TPS has been denied.

What documentation may I present to my employer for Form I-9 if I am already employed but my current TPS-related EAD is set to expire?

Even though your EAD has been automatically extended, your employer is required by law to ask you about your continued employment authorization. Your employer may need to re-inspect your automatically extended EAD to check the Card Expires date and Category code if your employer did not keep a copy of your EAD when you initially presented it. Once your employer has reviewed the Card Expiration date and Category code, your employer should update the EAD expiration date in Section 2 of Form I-9. See the section “What updates should my current employer make to Form I-9 if my EAD has been automatically extended?” of this Federal Register Notice for further information. You may show this Federal Register Notice to your employer to explain what to do for Form I-9 and to show that your EAD has been automatically extended through March 2, 2022, but you are not required to do so. The last day of the automatic EAD extension is March 2, 2022. Before you start work on March 3, 2022, your employer is required by law to reverify your employment authorization in Section 3 of Form I-9. By that time, you must present any document from List A or any document from List C on Form I-9 Lists of Acceptable Documents, or an acceptable List A or List C receipt described in the Form I-9 instructions to reverify employment authorization.

Your employer may not specify which List A or List C document you must present and cannot reject an acceptable receipt.

Can my employer require that I provide any other documentation to prove my status, such as proof of my Yemeni citizenship or a Form I-797C showing I re-registered for TPS?

No. When completing Form I-9, including reverifying employment authorization, employers must accept any documentation that appears on the Form I-9 Lists of Acceptable Documents that reasonably appears to be genuine and that relates to you, or an acceptable List A, List B, or List C receipt. Employers need not reverify List B identity documents. Therefore, employers may not request proof of Yemeni citizenship or proof of re-registration for TPS when completing Form I-9 for new hires or reverifying the employment authorization of current employees. If you present an EAD that has been automatically extended, employers should accept it as a valid List A document so long as the EAD reasonably appears to be genuine and relates to you. Refer to the Note to Employees section of this Federal Register Notice for important information about your rights if your employer rejects lawful documentation, requires additional documentation, or otherwise discriminates against you based on your citizenship or immigration status, or your national origin.

How do my employer and I complete Form I-9 using my automatically extended EAD for a new job?

When using an automatically extended EAD to complete Form I-9 for a new job before March 3, 2022, for Section 1, you should:

a. Check “An alien authorized to work until” and enter March 2, 2022 as the “expiration date”; and

b. Enter your Alien Number/USCIS number or A-Number where indicated (your EAD or other document from DHS will have your USCIS number or A-Number printed on it; the USCIS number is the same as your A-Number without the A prefix).

2. For Section 2, employers should:

a. Determine if the EAD is auto-extended by ensuring it is in category A-12 or C-19 and has a Card Expires date of September 3, 2021;

b. Write in the document title;

c. Enter the issuing authority;

d. Provide the document number; and

e. Write March 2, 2022, as the expiration date.

Before the start of work on March 3, 2022, employers must reverify the employee's employment authorization in Section 3 of Form I-9.

What updates should my current employer make to Form I-9 if my EAD has been automatically extended?

If you presented a TPS-related EAD that was valid when you first started your job and your EAD has now been automatically extended, your employer may need to re-inspect your current EAD if they do not have a copy of the EAD on file. Your employer should determine if your EAD is automatically extended by ensuring that it contains Category A-12 or C-19 and has a Card Expires date of September 3, 2021, on the front of the card.

If your employer determines that your EAD has been automatically extended, your employer should update Section 2 of your previously completed Form I-9 as follows:

1. Write EAD EXT and March 2, 2022, as the last day of the automatic extension in the Additional Information field; and

2. Initial and date the correction.

Note: This is not considered a reverification. Employers do not complete Section 3 until either the 180-day automatic extension has ended, or the employee presents a new document to show continued employment authorization, whichever is sooner. By March 3, 2022, when the employee's automatically extended EAD has expired, employers are required by law to reverify the employee's employment authorization in Section 3.

If I am an employer enrolled in E-Verify, how do I verify a new employee whose EAD has been automatically extended?

Employers may create a case in E-Verify for a new employee by entering the number from the Document Number field on Form I-9 into the document number field in E-Verify. Employers should enter March 2, 2022, as the expiration date for an EAD that has been extended under this Federal Register Notice.

If I am an employer enrolled in E-Verify, what do I do when I receive a “Work Authorization Documents Expiring” alert for an automatically extended EAD?

E-Verify automated the verification process for TPS-related EADs that are automatically extended. If you have employees who provided a TPS-related EAD when they first started working for you, you will receive a “Work Authorization Documents Expiring” case alert when the auto-extension period for this EAD is about to expire. Before this employee starts work on March 3, 2022, you must reverify his or her employment authorization in Section 3 of Form I-9. Employers may not use E-Verify for reverification.

Note to All Employers

Employers are reminded that the laws requiring proper employment eligibility verification and prohibiting unfair immigration-related employment practices remain in full force. This Federal Register Notice does not supersede or in any way limit applicable employment verification rules and policy guidance, including those rules setting forth reverification requirements. For general questions about the employment eligibility verification process, employers may call USCIS at 888-464-4218 (TTY 877-875-6028) or email USCIS at I9Central@uscis.dhs.gov. USCIS accepts calls and emails in English and many other languages. For questions about avoiding discrimination during the employment eligibility verification process (Form I-9 and E-Verify), employers may call the U.S. Department of Justice, Civil Rights Division, Immigrant and Employee Rights Section (IER) Employer Hotline at 800-255-8155 (TTY 800-237-2515). IER offers language interpretation in numerous languages. Employers may also email IER at IER@usdoj.gov.

Note to Employees

For general questions about the employment eligibility verification process, employees may call USCIS at 888-897-7781 (TTY 877-875-6028) or email USCIS at I-9Central@uscis.dhs.gov. Calls are accepted in English, Spanish, and many other languages. Employees or applicants may also call the IER Worker Hotline at 800-255-7688 (TTY 800-237-2515) for information regarding employment discrimination based upon citizenship, immigration status, or national origin, including discrimination related to Form I-9 and E-Verify. The IER Worker Hotline provides language interpretation in numerous languages.

To comply with the law, employers must accept any document or combination of documents from the Lists of Acceptable Documents if the documentation reasonably appears to be genuine and to relate to the employee, or an acceptable List A, List B, or List C receipt as described in the Form I-9 Instructions. Employers may not require extra or additional documentation beyond what is required for Form I-9 completion. Further, employers participating in E-Verify who receive an E-Verify case result of Tentative Nonconfirmation (TNC) must promptly inform employees of the TNC and give such employees an opportunity to contest the TNC. A TNC case result means that the information entered into E-Verify from an employee's Form I-9 differs from Federal or state government records.

Employers may not terminate, suspend, delay training, withhold or lower pay, or take any adverse action against an employee because of the TNC while the case is still pending with E-Verify. A Final Nonconfirmation (FNC) case result is received when E-Verify cannot verify an employee's employment eligibility. An employer may terminate employment based on a case result of FNC. Work-authorized employees who receive an FNC may call USCIS for assistance at 888-897-7781 (TTY 877-875-6028). For more information about E-Verify-related discrimination or to report an employer for discrimination in the E-Verify process based on citizenship, immigration status, or national origin, contact IER's Worker Hotline at 800-255-7688 (TTY 800-237-2515). Additional information about proper nondiscriminatory Form I-9 and E-Verify procedures is available on the IER website at https://www.justice.gov/ier and on the USCIS and E-Verify websites at https://www.uscis.gov/i-9-central and https://www.e-verify.gov.

Note Regarding Federal, State, and Local Government Agencies (Such as Departments of Motor Vehicles)

For Federal purposes, TPS beneficiaries presenting an automatically extended EAD as referenced in this Federal Register Notice do not need to show any other document, such as an I-797C Notice of Action or this Federal Register Notice, to prove that they qualify for this extension. However, while Federal Government agencies must follow the guidelines laid out by the Federal Government, state and local government agencies establish their own rules and guidelines when granting certain benefits. Each state may have different laws, requirements, and determinations about what documents you need to provide to prove eligibility for certain benefits. Whether you are applying for a Federal, state, or local government benefit, you may need to provide the government agency with documents that show you are a TPS beneficiary, show you are authorized to work based on TPS or other status, and/or that may be used by DHS to determine whether you have TPS or other immigration status. Examples of such documents are:

• Your current EAD with a TPS category code of A12 or C19;

• Your Form I-94, Arrival/Departure Record;

• Your Form I-797, Notice of Action, reflecting approval of your Form I-765; or

• Your Form I-797, the notice of approval, for a past or current Form I-821, if you received one from USCIS.

Check with the government agency regarding which document(s) the agency will accept. Some benefit-granting agencies use USCIS' Systematic Alien Verification for Entitlements (SAVE) program to confirm the current immigration status of applicants for public benefits. While SAVE can verify when an individual has TPS, each agency's procedures govern whether they will accept an unexpired EAD, Form I-797, or Form I-94, Arrival/Departure Record. If an agency accepts the type of TPS-related document you are presenting, such as an EAD, the agency should accept your automatically extended EAD. It may assist the agency if you:

a. Present the agency with a copy of the relevant Federal Register Notice showing the extension of TPS-related documentation in addition to your recent TPS-related document with your A-number, USCIS number or Form I-94 number;

b. Explain that SAVE will be able to verify the continuation of your TPS using this information; and

c. Ask the agency to initiate a SAVE query with your information and follow through with additional verification steps, if necessary, to get a final SAVE response verifying your TPS.

You can also ask the agency to look for SAVE notices or contact SAVE if they have any questions about your immigration status or automatic extension of TPS-related documentation. In most cases, SAVE provides an automated electronic response to benefit-granting agencies within seconds, but, occasionally, verification can be delayed. You can check the status of your SAVE verification by using CaseCheck at save.uscis.gov/casecheck/. CaseCheck is a free service that lets you follow the progress of your SAVE verification case using your date of birth and one immigration identifier number (A-number, USCIS number or Form I-94 number) or Verification Case Number. If an agency has denied your application based solely or in part on a SAVE response, the agency must offer you the opportunity to appeal the decision in accordance with the agency's procedures. If the agency has received and acted upon or will act upon a SAVE verification and you do not believe the SAVE response is correct, find detailed information on how to make corrections or update your immigration record, make an appointment, or submit a written request to correct records. More information can be found on the SAVE website at www.uscis.gov/ save.

[FR Doc. 2021-14670 Filed 7-7-21; 4:15 pm]

BILLING CODE 9111-97-P